DEPARTMENT OF HEALTH AND HUMAN SERVICES

Centers for Disease Control and Prevention

[60Day-20-1193; Docket No. CDC-2019-0105]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Assessment of Technical Assistance and Training (TTA) Approaches to Accelerate Comprehensive Cancer Control Outcomes. CDC is requesting to collect information about TTA offered using case studies and a web-based survey to assess whether a specific cooperative agreement has been implemented as intended, and has contributed to National Comprehensive Cancer Control Program (NCCCP) awardees' achievements in program goals and outcomes.

DATES: CDC must receive written comments on or before February 4, 2020.

ADDRESSES: You may submit comments, identified by Docket No. CDC-2019-0105 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road, NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Assessment of Technical Assistance and Training (TTA) Approaches to Accelerate Comprehensive Cancer Control Outcomes (OMB Control No. 0920-1193)—Reinstatement with Change—National Center for Chronic Disease Prevention and Health Promotion (NCCDPHP), Centers for Disease Control and Prevention (CDC).

Background and Brief Description

Cancer is the second leading cause of death in the United States, and health care costs for cancer care are expected to rise to $158 billion by 2020. Addressing this public health problem requires primary prevention, early detection and treatment, support for cancer survivors, and a reduction in health disparities. Providing support to state, tribal, territorial and local organizations to implement evidence-based strategies has the potential to impact population-level cancer outcomes and reduce the burden of cancer.

The Centers for Disease Control and Prevention's (CDC) National Comprehensive Cancer Control Program (NCCCP) has been a primary funder for state and community-based cancer control interventions since its inception in the late 1990s. The program supports states and communities in developing a comprehensive approach to cancer prevention and control that includes supporting an infrastructure for state, local, and population-based interventions and multi-sectoral partnerships and coalitions. Currently, NCCCP supports 66 cancer control program grantees including programs in all 50 states, the District of Columbia, and in a number of tribes, tribal organizations, and U.S. Associated Pacific Islands/territories. In addition, CDC's Office on Smoking and Health (OSH) also has worked to build state health department infrastructure and capacity to conduct coordinated comprehensive tobacco prevention and control activities which contribute to cancer health outcomes.

In striving to build capacity and maximize the impact of CDC's funded programs, CDC has focused on developing and implementing innovative programs to enhance TTA delivered to NCCCP awardees. CDC funds two awardees under a cooperative agreement—Provision of Technical Assistance and Training to Assure Comprehensive Cancer Control Outcomes (DP18-1805). DP18-1805 awardees are charged with developing and delivering high-quality TTA for NCCCP funded programs, coalition members, and partners focused on improving implementation of evidence-based strategies for cancer prevention and control. The TTA activities DP18-1805 awardees implement include; (1) conducting needs assessments, (2) developing framework for building CCC capacity, (3) coordinating and collaborating with existing partners, (4) developing a TTA plan, (5) implementing a TTA plan and conducting performance monitoring and continuous quality improvement; and 6) conducting a comprehensive evaluation of TTA.

CDC proposes to conduct an assessment DP18-1805 to: (1) Document the nature of the TTA provided by DP18-1805 awardees and the extent to which the cooperative agreement was able to achieve planned short-term outcomes, and (2) identify the extent to which DP18-1805 TTA efforts contributed to NCCCP funded programs' achievement in program outcomes. There are no other data collection efforts currently underway to assess implementation or perceived effectiveness of TTA administered under DP18-1805.

This information collection request will involve two complementary data collection efforts: (1) Case studies of DP18-1805 awardees (consisting of interviews with DP18-1805 program managers/directors, evaluators, and partners) and (2) a cross-sectional web-based survey administered to NCCCP program directors, coalition members, and partners. The case studies will be used to explore how DP18-1805 awardees are implementing their respective cooperative agreements and administering TTA to NCCCP awardees; the factors that affect the implementation of specific TTA components; and the extent to which they were able to achieve planned short-term outcomes. The web-based survey will inform CDC's understanding of the reach of DP18-1805 TTA efforts; elicit information from NCCCP programs and coalitions about the TTA received, including type, dosage, frequency and format; and assess the perceptions of the effectiveness of the TTA. CDC will use findings from the assessment to inform development of future TTA efforts to more effectively and efficiently support NCCCP's partner organizations.

OMB approval is requested for three years. Participation is voluntary and respondents will not receive incentives for participation. There are no costs to respondents other than their time. CDC requests approval for an estimated 152 annual burden hours associated with this activity.

Estimated Annualized Burden Hours
Type of respondents | Form name | Number of respondents | Number of responses per respondent | Average burden per response (in hrs) | Total burden hours
DP18-1805 Awardee Organizations | Worksheet for Identifying Case Study Interviewees | 2 | 1 | 1 | 2
DP18-1805 Program Directors/Managers | Case Study Interview Guide for DP18-1805 Program Directors or Managers | 4 | 1 | 90/60 | 6
DP18-1805 Evaluators | Case Study Interview Guide for DP1-1315 Evaluators | 4 | 1 | 1 | 4
DP18-1805 Partners | Case Study Interview Guide for DP1-1315 Partners | 8 | 1 | 1 | 8
NCCCP Program Directors, Staff, Coalition Members, and Partners | Web-based Survey | 264 | 2 | 15/60 | 132
Total |  | 282 |  |  | 152

Jeffrey M. Zirger,
Lead, Information Collection Review Office, Office of Scientific Integrity, Office of Science, Centers for Disease Control and Prevention.

[FR Doc. 2019-26373 Filed 12-5-19; 8:45 am]

BILLING CODE 4163-18-P